NATIONAL COMMISSION ON LIBRARIES AND INFORMATION SCIENCE

Sunshine Act Meeting

AGENCY: National Commission on Libraries and Information Science (NCLIS).

ACTION: Notice of meetings.

SUMMARY: The National Commission on Libraries and Information Science is holding an open business meeting to discuss Commission programs and administrative matters. Topics will include:

(1) Introductions;

(2) Administrative matters;

(3) History of NCLIS;

(4) Current activities (e.g., Trust and Terror briefing, Information Literacy initiative, et al.);

(5) Relationships with other organizations (e.g., Institute of Museum and Library Services, American Library Association);

(6) NCLIS budget;

(7) NCLIS's future direction.

Date and Time: NCLIS Business Meeting—December 15, 2003, 2 p.m. until 5 p.m. December 16, 2003, 9 a.m. until 4:30 p.m. December 17, 2003, 9 a.m. until 12 noon.

ADDRESS: 1110 Vermont Avenue, NW., Suite 820, Washington, DC 20005-3552.

STATUS: Open meeting.

SUPPLEMENTARY INFORMATION: The business meeting is open to the public, subject to space availability. To make special arrangements for physically challenged persons, contact Madeleine McCain, Director of Operations, 1110 Vermont Avenue, NW., Suite 820, Washington, DC 20005, e-mail mmccain@nclis.gov, fax (202) 606-9203 or telephone (202) 606-9200.

SUMMARY: The U.S. National Commission on Libraries and Information Science is also holding a closed meeting to review personnel matters. Closing this meeting is in accordance with the exemption provided under title 45, CFR, part 1703.202(a)(6).

Date and Time: NCLIS Closed Meeting—December 16, 2003, 4:30 p.m.-5 p.m.

ADDRESS: 1110 Vermont Avenue, NW., Suite 820, Washington, DC 20005-3552.

Status: Closed meeting.

FOR FURTHER INFORMATION CONTACT: Madeleine McCain, Director of Operations, U.S. National Commission on Libraries and Information Science, 1110 Vermont Avenue, NW., Suite 820, Washington, DC 20005, e-mail mmccain@nclis.gov fax (202) 606-9203 or telephone (202) 606 9200.

Dated: December 5, 2003.
Robert S. Willard,
NCLIS Executive Director.

[FR Doc. 03-30669 Filed 12-5-03; 4:52 pm]

BILLING CODE 7527-$$-P